DEPARTMENT OF HOMELAND SECURITY

Sector Outreach and Programs Online Meeting Registration Tool

AGENCY: Infrastructure Security Division (ISD), Cybersecurity and Infrastructure Security Agency (CISA), Department of Homeland Security (DHS).

ACTION: 30-Day notice and request for comments; revision, 1670-0019.

SUMMARY: DHS CISA ISD will submit the following information collection request (ICR) to the Office of Management and Budget (OMB) for review and clearance in accordance with the Paperwork Reduction Act of 1995. CISA previously published this ICR for a 60-day public comment period. No comments were received by CISA. The purpose of this notice is to allow an additional 30 days for public comments.

DATES: Comments are due by December 4, 2019.

ADDRESSES: Interested persons are invited to submit written comments on the proposed information collection to the Office of Information and Regulatory Affairs, OMB. Comments should be addressed to the OMB Desk Officer, Department of Homeland Security and sent via electronic mail to dhsdeskofficer@omb.eop.gov. All submissions must include the words “Department of Homeland Security” and the OMB Control Number 1670-0019.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Auco Ho, 703-603-5205, sopd_feedback@HQ.DHS.GOV.

SUPPLEMENTARY INFORMATION: The Critical Infrastructure Protection Act of 2001, 42 U.S.C. 5195c, states that any physical or virtual disruption of the operation of the critical infrastructures of the United States be rare, brief, geographically limited in effect, manageable, and minimally detrimental to the economy, human and government services, and national security of the United States; and that actions necessary to achieve the policy stated be carried out in a public-private partnership involving corporate and non-governmental organizations. On behalf of the DHS, CISA ISD manages the Department's program to protect the Nation's 16 critical infrastructure sectors by implementing the National Infrastructure Protection Plan (NIPP) 2013, Partnering for Critical Infrastructure Security and Resilience. Pursuant to Presidential Policy Directive 21 on Critical Infrastructure Security and Resilience (February 2013), each sector is assigned a Sector-Specific Agency (SSA) to oversee Federal interaction with the array of sector security partners, both public and private. An SSA is responsible for leading a unified public-private sector effort to develop, coordinate, and implement a comprehensive physical, human, and cyber security strategy for its assigned sector. CISA ISD Sector Outreach and Programs (SOP) executes the SSA responsibilities for the six critical infrastructure sectors assigned to ISD: Chemical, Commercial Facilities, Critical Manufacturing, Dams, Emergency Services, and Nuclear Reactors, Materials and Waste (Nuclear).

The mission of SOP is to enhance the resiliency of the Nation by leading the unified public-private sector effort to ensure its assigned critical infrastructure are prepared, more secure, and safer from terrorist attacks, natural disasters, and other incidents. To achieve this mission, SOP leverages the resources and knowledge of its critical infrastructure sectors to develop and apply security initiatives that result in significant, measurable benefits to the Nation.

Each SOP branch builds sustainable partnerships with its public and private sector stakeholders to enable more effective sector coordination, information sharing, and program development and implementation. These partnerships are sustained through the Sector Partnership Model, described in the 2013 NIPP pages 10-12.

Information sharing is a key component of the NIPP Partnership Model, and DHS sponsored conferences are one mechanism for information sharing. To facilitate conference planning and organization, SOP has established an online event registration tool for use by all of its branches. The information collection is voluntary and is used by the SSAs within SOP. The six SSAs within SOP uses this information to register public and private sector stakeholders for meetings hosted by the SSA. The SOP uses the information collected to reserve space at a meeting for the registrant; contact the registrant with a reminder about the event; develop meeting materials for attendees; determine topics of most interest; and efficiently generate attendee and speaker nametags. Additionally, it allows SOP to have a better understanding of the organizations participating in the critical infrastructure protection partnership events. By understanding who is participating, the SSA can identify portions of a sector that are underrepresented, and the SSA could then target that underrepresented sector elements through outreach and awareness initiatives.

The changes to the collection include: Changes to the burden costs, annual government costs, and adding data fields. The registration has been updated to add the following data fields: Attendee ADA Specific Aids or Services Requested (Yes/No), Attendee Organization Company Size, Attendee First Time Attending, Organization Category, Attendee Organization Private Sector Category, Public Sector Category. The annual burden cost for the collection has increased by $175, from $1,627 to $1,802, due to updated compensation rates. The annual government cost for the collection has decreased by $3,269, from $11,615 to $8,347, due to reduced online registration tool annual use fee and a decrease in the cost per registrant from $9.73 to $7.19 per registrant.

This is a revision and renewal of an information collection.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: Sector Outreach and Programs Online Meeting Registration Tool.

OMB Control Number: 1670-0019.

Frequency: Annually.

Affected Public: State, Local, Tribal, and Territorial Governments and Private Sector Individuals.

Number of Annualized Respondents: 400.

Estimated Time per Respondent: 0.05 hours.

Total Annualized Burden Hours: 20 hours.

Total Annualized Respondent Opportunity Cost: $1,802.

Total Annualized Respondent Out-of-Pocket Cost: $0.

Total Annualized Government Cost: $8,346.79.

Scott Libby,
Deputy Chief Information Officer.

[FR Doc. 2019-24049 Filed 11-1-19; 8:45 am]

BILLING CODE 9110-9P-P